PEACE CORPS

Notice

ACTION: Notice to add a new system of records.

SUMMARY: As required under the Privacy Act of 1974, (5 U.S.C. 552a), as amended, the Peace Corps is giving notice of a new system of records, Peace Corps 50th Anniversary Archive.

DATES: This action will be effective without further notice on November 10, 2008 unless comments are received by October 27, 2008 that would result in a contrary determination.

ADDRESSES: You may submit comments by e-mail to nmiller@peacecorps.gov. Include Privacy Act System of Records in the subject line of the message. You may also submit comments by mail to Nancy Miller, Office of the General Counsel, Peace Corps, Suite 8200, 1111 20th Street, NW., Washington, DC 20526. Contact Nancy Miller for copies of comments.

FOR FURTHER INFORMATION CONTACT: Nancy Miller, Associate General Counsel, 202-692-2150, nmiller@peacecorps.gov.

SUPPLEMENTARY INFORMATION: The Privacy Act, 5 U.S.C. 552a, provides that the public will be given a 30-day period in which to comment on the new system. The Office of Management and Budget (OMB), which has oversight responsibility under the Act, requires a 40-day period in which to review the proposed system. In accordance with 5 U.S.C. 552a, Peace Corps has provided a report on this system to OMB and the Congress. Peace Corps previously submitted this system for public comment, and in response to public comment we have removed the social security number as an identifier in this system.

System name:

PC-31—Peace Corps 50th Anniversary Archive.

Security classification:

Not applicable.

System location:

Peace Corps Office of Communications, Peace Corps, 1111 20th St., NW., Washington, DC 20526.

Category of individuals covered by the system:

Former Peace Corps volunteers or their next-of-kin who have voluntarily contributed materials to the digital library and members of the public.

Categories of records in the system:

Name, e-mail address, telephone number, volunteer ID, country of service, dates of service, volunteer assignment area, descriptive information about items they have voluntarily submitted to the digital library (i.e., personal narratives, stories, digital photographs). Correspondence files related to submissions and requests for information from the database.

Authority for maintenance of the system:

The Peace Corps Act, 22 U.S.C. 2501, et seq.

Purpose (s):

To build a collection of stories, historical documents and photographs that help convey the history of Peace Corps and the experiences of former Volunteers, to be used as source material for articles, events and exhibits honoring the 50th anniversary of Peace Corps in 2011.

Routine uses of records maintained in the system, including categories of users and the purpose of such users:

General routine uses A-M apply to this system.

Disclosure to consumer reporting agencies:

None.

Policies and practices for storing, retrieving, accessing, retaining, and disposing of records in the system:

Storage:

We are accepting only electronic submissions of stories and digital photos. Should photographic prints and documents be sent to us, they will be stored in a locked file room in the Peace Corps Office of Communications until they are returned to the submitter after digitization. Name, contact information and service information of contributors will be stored in a password protected computerized database.

Retrievability:

By name, country of service, dates of service, volunteer ID, volunteer assignment area, format, and subject(s) of voluntarily submitted materials.

Safeguards:

Photographic prints, newsletters and journals will be stored in a locked file room in the Peace Corps Office of Communications. Digital records and indexing data will be stored on secure servers. Server access is limited to authorized personnel whose duties require such access.

Retention and disposal:

Records are permanent per the existing schedule. An extract of the electronic files, with the contact information and volunteer ID removed for privacy protection, will be retired to the National Archives and Records Administration upon approval of an updated records schedule covering anniversary records.

System manager(s) and address:

50th Anniversary Archive Project Manager, Office of Communications, Peace Corps, 1111 20th St., NW., Washington, DC 20526. E-mail: archive@peacecorps.gov.

Notification procedure:

Any individual who wants notification that this system of records contains a record about him or her should make a written request to the System Manager. Requesters will be required to provide adequate identification, such as a driver's license, employee identification card, or other identifying documentation. Additional identification may be required in some instances. Complete Peace Corps Privacy Act procedures are set out in 22 CFR part 308.

Record access procedures:

Any individual who wants access to his or her record should make a written request to the System Manager. Requesters will be required to provide adequate identification, such as a driver's license, employee identification card, or other identifying documentation. Additional identification may be required in some instances. Complete Peace Corps Privacy Act procedures are set out in 22 CFR part 308.

Contesting record procedures:

Any individual who wants to contest the contents of a record should make a written request to the System Manager. Requesters will be required to provide adequate identification, such as a driver's license, employee identification card, or other identifying documentation. Additional identification may be required in some instances. Requests for correction or amendment must identify the record to be changed and the corrective action sought. Complete Peace Corps Privacy Act procedures are set out in 22 CFR part 308.

Record source categories:

Record subject.

Exemptions claimed for the system:

None.

Dated: September 19, 2008.
Carl R. Sosebee,
Acting General Counsel.

[FR Doc. E8-22526 Filed 9-24-08; 8:45 am]

BILLING CODE 6015-01-P